DEPARTMENT OF DEFENSE

Department of the Navy

Notice of Intent to Grant Exclusive Patent License; Sensera, Inc.

AGENCY: Department of the Navy, DOD.

ACTION: Notice.

SUMMARY: The Department of the Navy hereby gives notice of its intent to grant to Sensera, Inc., a revocable, nonassignable, exclusive license, to practice in the field of in vitro diagnosis of human disease(s) and determination of disease indicators for the subfields of Point of Care Rapid Diagnosis of Cardiac Infarction Indictors such as cardiac Troponin I, cardiac Troponin T, Myoglobin, and Creatine Kinase-Myocardial Band; Point of Care Rapid Diagnosis of Stroke Indicators; Point of Care Rapid Diagnosis of Cancer Markers such as those for breast, prostate, colorectal, and cervical cancer and Point of Care Rapid Diagnosis of Infectious Disease such as Sexually Transmitted diseases, Hepatitis, TB, tropical traveler's diseases, Lyme disease, toxoplasmosis, cryptosporidium in drinking water, Group A strep, antibiotic resistant staph and strep in the United States and certain foreign countries, the Government-owned inventions described in U.S. Patent No. 5,372,930: Sensors for Ultra-Low Concentration Molecular Recognition, Navy Case No. 73,568//U.S. Patent No. 5,807,758: Chemical and Biological Sensor Using an Ultra-Sensitive Force Transducer, Navy Case No. 76,628//U.S. Patent No. 6,180,418: Force Discrimination Assay, Navy Case No. 78,183//U.S. Patent No. 6,676,904: Nanoporous Membrane Immunosensor, Navy Case No. 80,068.

DATES: Anyone wishing to object to the grant of this license must file written objections along with supporting evidence, if any, not later than August 11, 2005.

ADDRESSES: Written objections are to be filed with the Naval Research Laboratory, Code 1004, 455 Overlook Avenue, SW., Washington, DC 20375-5320.

FOR FURTHER INFORMATION CONTACT: Ms. Jane Kuhl, Head, Technology Transfer Office, NRL Code 1004, 4555 Overlook Avenue, SW., Washington, DC 20375-5320, telephone 202-767-3083. Due to U.S. Postal delays, please fax 202-404-7920, E-Mail: kuhl@utopia.nrl.navy.mil or use courier delivery to expedite response.

(Authority: 35 U.S.C. 207, 37 CFR part 404.)

Dated: July 21, 2005.
I.C. LeMoyne, Jr.,
Lieutenant, Judge Advocate General's Corps, U.S. Navy, Alternate Federal Register Liaison Officer.

[FR Doc. 05-14799 Filed 7-26-05; 8:45 am]

BILLING CODE 3810-FF-M